FEDERAL COMMUNICATIONS COMMISSION

47 CFR Part 54

[WC Docket Nos. 17-287, 11-42, 09-197; FCC 17-155; FR ID 141908]

Bridging the Digital Divide for Low-Income Consumers, Lifeline and Link Up Reform and Modernization, Telecommunications Carriers Eligible for Universal Service Support

AGENCY: Federal Communications Commission.

ACTION: Final rule.

SUMMARY: In this document, the Federal Communications Commission (Commission) is issuing a final rule for the Lifeline program.

DATES: This rule is effective May 31, 2023. As of May 31, 2023, the amendments to 47 CFR 54.403(a)(3), 54.413, and 54.414(b), published January 16, 2018, at 83 FR 2075, are withdrawn,

FOR FURTHER INFORMATION CONTACT: Nicholas Page, Nicholas.Page@fcc.gov, Telecommunications Access Policy Division, Wireline Competition Bureau, (202) 418-7400 or TTY: (202) 418-0484.

SUPPLEMENTARY INFORMATION: The Federal Communications Commission (Commission) adopted amendments to 47 CFR 54.403(a)(3), 54.413, and 54.414(b) that were to become effective upon announcement in the Federal Register of OMB information collection approval (83 FR 2075, January 16, 2018) (FR Doc. 2018-00152). These amended rules were vacated by the Court of Appeals for the D.C. Circuit in National Lifeline Association v. Federal Communications Commission. 921 F.3d 1102. Accordingly, revisions to § 54.403(a)(3), third column on page 2084; § 54.413, first column on page 2085; and § 54.414(b), second column on page 2085 are being withdrawn and these rules are reverting back to their prior version.

List of Subjects in 47 CFR Part 54

Communications common carriers, Health facilities, Internet, Libraries, Reporting and recordkeeping requirements, Schools, and Telecommunications.

Federal Communications Commission.
Marlene Dortch,
Secretary.

Final Rules

For the reasons discussed in the preamble, the Federal Communications Commission amends 47 CFR part 54 to read as follows:

PART 54—UNIVERSAL SERVICE

1. The authority citation for part 54 continues to read as follows:

Authority: 47 U.S.C. 151, 154(i), 155, 201, 205, 214, 219, 220, 229, 254, 303(r), 403, 1004, 1302, 1601-1609, and 1752, unless otherwise noted.

2. Amend § 54.403 by revising paragraph (a)(3) to read as follows:

§ 54.403 Lifeline support amount.

* * * * *

(a) * * *

(3) Tribal lands support amount. Additional Federal Lifeline support of up to $25 per month will be made available to an eligible telecommunications carrier providing Lifeline service to an eligible resident of Tribal lands, as defined in § 54.400(e), to the extent that the eligible telecommunications carrier certifies to the Administrator that it will pass through the full Tribal lands support amount to the qualifying eligible resident of Tribal lands and that it has received any non-Federal regulatory approvals necessary to implement the required rate reduction.

* * * * *

3. Revise § 54.413 to read as follows:

§ 54.413 Link Up for Tribal lands.

(a) Definition. For purposes of this subpart, the term “Tribal Link Up” means an assistance program for eligible residents of Tribal lands seeking telecommunications service from a telecommunications carrier that is receiving high-cost support on Tribal lands, pursuant to subpart D of this part, that provides:

(1) A 100 percent reduction, up to $100, of the customary charge for commencing telecommunications service for a single telecommunications connection at a subscriber's principal place of residence imposed by an eligible telecommunications carrier that is also receiving high-cost support on Tribal lands, pursuant to subpart D of this part. For purposes of this subpart, a “customary charge for commencing telecommunications service”' is the ordinary charge an eligible telecommunications carrier imposes and collects from all subscribers to initiate service with that eligible telecommunications carrier. A charge imposed only on qualifying low-income consumers to initiate service is not a customary charge for commencing telecommunications service. Activation charges routinely waived, reduced, or eliminated with the purchase of additional products, services, or minutes are not customary charges eligible for universal service support; and

(2) A deferred schedule of payments of the customary charge for commencing telecommunications service for a single telecommunications connection at a subscriber's principal place of residence imposed by an eligible telecommunications carrier that is also receiving high-cost support on Tribal lands, pursuant to subpart D of this part, for which the eligible resident of Tribal lands does not pay interest. The interest charges not assessed to the eligible resident of Tribal lands shall be for a customary charge for connecting telecommunications service of up to $200 and such interest charges shall be deferred for a period not to exceed one year.

(b) An eligible resident of Tribal lands may receive the benefit of the Tribal Link Up program for a second or subsequent time only for otherwise qualifying commencement of telecommunications service at a principal place of residence with an address different from the address for which Tribal Link Up assistance was provided previously.

4. Amend § 54.414 by revising paragraph (b) to read as follows:

§ 54.414 Reimbursement for Tribal Link Up.

* * * * *

(b) In order to receive universal support reimbursement for providing Tribal Link Up, eligible telecommunications carriers must follow the procedures set forth in § 54.410 to determine an eligible resident of Tribal lands' initial eligibility for Tribal Link Up. Eligible telecommunications carriers must obtain a certification form from each eligible resident of Tribal lands that complies with § 54.410 prior to enrolling him or her in Tribal Link Up.

* * * * *

[FR Doc. 2023-11103 Filed 5-30-23; 8:45 am]

BILLING CODE 6712-01-P